DEPARTMENT OF ENERGY

Federal Energy Regulatory Commission

[Docket No. OR09-5-000]

Enbridge Energy, Limited Partnership; Notice of Supplement to Facilities Surcharge Settlement

June 18, 2009.

Take notice that on February 27, 2009, Enbridge Energy, Limited Partnership (Enbridge Energy), with the support of the Canadian Association of Petroleum Producers, submitted a Supplement to the Facilities Surcharge Settlement (Supplemental Settlement) approved by the Commission on June 30, 2004, in Docket No. OR04-2-000. Enbridge Energy, Limited Partnership, 107 FERC ¶ 61,336 (2004).

Initial comments on the Supplemental Settlement should be filed on or before June 29, 2009. Reply comments should be filed on or before July 6, 2009.

Kimberly D. Bose,
Secretary.

[FR Doc. E9-14936 Filed 6-24-09; 8:45 am]

BILLING CODE 6717-01-P